DEPARTMENT OF TRANSPORTATION

Federal Aviation Administration

14 CFR Part 39

[Docket No. FAA-2017-0496; Directorate Identifier 2016-NM-103-AD]

RIN 2120-AA64

Airworthiness Directives; Dassault Aviation Airplanes

AGENCY: Federal Aviation Administration (FAA), DOT.

ACTION: Notice of proposed rulemaking (NPRM).

SUMMARY: We propose to adopt a new airworthiness directive (AD) for certain Dassault Aviation Model FALCON 7X airplanes. This proposed AD was prompted by a report indicating that, under certain operational takeoff conditions, the available thrust in relation with the N1 indication is less than a certified value, which could affect the safety margins with an engine failure during takeoff. This proposed AD would require modifying each engine by updating the electronic engine control (EEC) software and adjusting the engine N1 trim value, and revising the airplane flight manual. We are proposing this AD to address the unsafe condition on these products.

DATES: We must receive comments on this proposed AD by July 14, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For Dassault service information identified in this NPRM, contact Dassault Falcon Jet Corporation, Teterboro Airport, P.O. Box 2000, South Hackensack, NJ 07606; telephone 201-440-6700; Internet http://www.dassaultfalcon.com. For Pratt & Whitney Canada service information identified in this NPRM, contact Pratt & Whitney Canada Corp., 1000 Marie-Victorin, Longueuil, Quebec, Canada, J4G 1A1; telephone 800-268-8000; fax 450-647-2888; Internet http://www.pwc.ca. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0496; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Comments Invited

We invite you to send any written relevant data, views, or arguments about this proposed AD. Send your comments to an address listed under the ADDRESSES section. Include “Docket No. FAA-2017-0496; Directorate Identifier 2016-NM-103-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2016-0063, dated March 31, 2016 (referred to after this as the Mandatory Continuing Airworthiness Information, or “the MCAI”), to correct an unsafe condition for certain Dassault Aviation FALCON 7X airplanes. The MCAI states:

A review of the Pratt & Whitney Canada (PWC) 307A engine data files has disclosed that, under certain operational take-off conditions (high altitude runway and low temperature), the available thrust in relation with N1 indication is less than certified and described in the Aircraft Flight Manual (AFM).

This condition, if not corrected, affects the safety margins with an engine failure during take-off, possibly resulting in reduced control of the aeroplane.

To address this potential unsafe condition, PWC developed an interim correction [i.e., modifying each engine installed on the airplane], to be embodied in service with PWC Service Bulletin (SB) 47202, which allows augmenting the thrust through a general N1-detrimming. Subsequently, PWC developed a new Engine Electronic Control (EEC) software version, which provides a definitive correction of the thrust rating deficiency. PWC published SB 47216 that provides instructions for in service installation of EEC software version 307A0514.

Concurrently with these developments, Dassault Aviation published SB 7X-287 to provide aeroplane modification instructions and also revised the performance charts relevant to the new thrust rating, available with AFM Revision 21 (incorporating Temporary Revision CP098).

For the reasons described above, this [EASA] AD requires modification of each engine, installation of the new software version, and amendment of the applicable AFM.

You may examine the MCAI in the AD docket on the Internet at http://www.regulations.gov by searching for and locating Docket No. FAA-2017-0496.

Related Service Information Under 1 CFR Part 51

We reviewed Dassault Falcon 7X AFM, Revision 21, dated November 20, 2015, which incorporates AFM CP098 (provides performance charts relevant to the new thrust rating).

We reviewed Dassault Service Bulletin 7X-287, also referred to as 287, dated January 4, 2016. This service information describes procedures for modifying each engine installed on the airplane by updating the EEC, which includes performing tests after removal and installation of the EEC.

We reviewed Pratt & Whitney Canada Service Bulletin PW300-72-47202, Revision 3, also referred to as 47202R3, dated March 10, 2016. This service information describes procedures for modifying an engine by adjusting the engine N1 trim value for PW307A engines.

We reviewed Pratt & Whitney Canada Service Bulletin PW300-72-47216, also referred to as 47216, dated January 13, 2016. This service information describes procedures for modifying each engine installed on the airplane by updating the EEC, which includes installing software EEC version 307A0514.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI

The MCAI specifies modifying each engine installed on the airplane by adjusting the engine N1 trim value within 30 days. In this proposed AD, the engine N1 trim adjustment is required prior to or concurrently with the engine modification to update the EEC software, which is required within 12 months. We have determined that this compliance time adequately addresses the identified unsafe condition and provides an acceptable level of safety.

Costs of Compliance

We estimate that this proposed AD affects 62 airplanes of U.S. registry.

We estimate the following costs to comply with this proposed AD:

Estimated Costs
Action | Labor cost | Parts cost | Cost per product | Cost on U.S. operators
Modification and AFM Revision | 6 work-hours × $85 per hour = $510 | $19,002 | $19,512 | $1,209,744

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Dassault Aviation: Docket No. FAA-2017-0496; Directorate Identifier 2016-NM-103-AD.

(a) Comments Due Date

We must receive comments by July 14, 2017.

(b) Affected ADs

None.

(c) Applicability

This AD applies to Dassault Aviation Model FALCON 7X airplanes, certificated in any category, all serial numbers, except airplanes modified with Dassault Aviation modification (Mod) M1389.

(d) Subject

Air Transport Association (ATA) of America Code 76, Engine Controls.

(e) Reason

This AD was prompted by a report indicating that, under certain operational takeoff conditions, the available thrust in relation with the N1 indication is less than a certified value, which could affect the safety margins with an engine failure during takeoff. We are issuing this AD to prevent a reduction in available engine thrust during certain operational takeoff conditions, which could affect the safety margins with an engine failure during takeoff and could result in reduced control of the airplane.

(f) Compliance

Comply with this AD within the compliance times specified, unless already done.

(g) Modification—Software Update

Within 12 months after the effective date of this AD, modify each engine installed on the airplane by updating the electronic engine control (EEC) (installation of software EEC version 307A0514), in accordance with the Accomplishment Instructions of Dassault Service Bulletin 7X-287, also referred to as 287, dated January 4, 2016; and Pratt & Whitney Canada Service Bulletin PW300-72-47216, also referred to as 47216, dated January 13, 2016.

(h) Airplane Flight Manual (AFM) Revision

Concurrently with the modification of an airplane required by paragraph (g) of this AD, revise the applicable AFM of that airplane by inserting a copy of Dassault Falcon 7X AFM, Revision 21, dated November 20, 2015 (incorporating AFM CP098).

(i) Modification—N1 Detrim

Prior to or concurrently with the modification of an airplane required by paragraph (g) of this AD, modify each engine installed on the airplane by adjusting the engine N1 trim value, in accordance with the Accomplishment Instructions of Pratt & Whitney Canada Service Bulletin PW300-72-47202, Revision 3, also referred to as 47202R3, dated March 10, 2016.

(j) Replacement Limitation

After modification of an airplane as required by paragraph (g) of this AD, installation of a replacement engine on that airplane is allowed, provided that, prior to installation, it is positively established that the engine embodies software EEC version 307A0514. Modification of a pre-mod engine to embody this software can be accomplished in accordance with the Accomplishment Instructions of Pratt & Whitney Canada Service Bulletin PW300-72-47216, also referred to as 47216, dated January 13, 2016.

(k) Alternative Replacements

Installation of a replacement engine or replacement EEC unit on an airplane after the effective date of this AD, which embodies a later software EEC version, is acceptable for compliance with paragraph (g) of this AD, provided the conditions specified in paragraphs (k)(1) and (k)(2) of this AD are met.

(1) The software EEC version must be approved by the Manager, International Branch, ANM-116, Transport Airplane Directorate, FAA; or the European Aviation Safety Agency (EASA); or Dassault Aviation's EASA Design Organization Approval (DOA).

(2) The installation must be accomplished in accordance with airplane modification instructions approved by the Manager, International Branch, ANM-116, Transport Airplane Directorate, FAA; or EASA; or Dassault Aviation's EASA DOA.

(l) Credit for Previous Actions

This paragraph provides credit for actions required by paragraph (i) of this AD, if those actions were performed before the effective date of this AD using service information in paragraph (l)(1), (l)(2), or (l)(3) of this AD.

(1) Pratt & Whitney Canada Service Bulletin PW300-72-47202, also referred to as 47202, dated June 17, 2014.

(2) Pratt & Whitney Canada Service Bulletin PW300-72-47202, Revision 1, also referred to as 47202R1, dated November 18, 2014.

(3) Pratt & Whitney Canada Service Bulletin PW300-72-47202, Revision 2, also referred to as 47202R2, dated January 5, 2016.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the manager of the International Branch, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or EASA; or Dassault Aviation's EASA DOA. If approved by the DOA, the approval must include the DOA-authorized signature.

(n) Related Information

(1) Refer to Mandatory Continuing Airworthiness Information (MCAI) EASA Airworthiness Directive 2016-0063, dated March 31, 2016, for related information. This MCAI may be found in the AD docket on the Internet at http://www.regulations.gov by searching for and locating Docket No. FAA-2017-0496.

(2) For more information about this AD, contact Tom Rodriguez, Aerospace Engineer, International Branch, ANM-116, Transport Airplane Directorate, FAA, 1601 Lind Avenue SW., Renton, WA 98057-3356; telephone 425-227-1137; fax 425-227-1149.

(3) For Dassault service information identified in this AD, contact Dassault Falcon Jet Corporation, Teterboro Airport, P.O. Box 2000, South Hackensack, NJ 07606; telephone 201-440-6700; Internet http://www.dassaultfalcon.com. For Pratt & Whitney Canada service information identified in this AD, contact Pratt & Whitney Canada Corp., 1000 Marie-Victorin, Longueuil, Quebec, Canada, J4G 1A1; telephone 800-268-8000; fax 450-647-2888; Internet http://www.pwc.ca. You may view this service information at the FAA, Transport Airplane Directorate, 1601 Lind Avenue SW., Renton, WA. For information on the availability of this material at the FAA, call 425-227-1221.

Issued in Renton, Washington, on May 15, 2017.
Michael Kaszycki,
Acting Manager, Transport Airplane Directorate, Aircraft Certification Service.

[FR Doc. 2017-10543 Filed 5-26-17; 8:45 am]

BILLING CODE 4910-13-P